DEPARTMENT OF HEALTH AND HUMAN SERVICES

Food and Drug Administration

FDA Food Labeling and Allergen Declaration; Public Workshop; Correction

AGENCY: Food and Drug Administration, HHS.

ACTION: Notice of public workshop; correction.

SUMMARY: The Food and Drug Administration (FDA) is correcting a notice that appeared in the Federal Register of Friday, March 29, 2002 (67 FR 15211). The document announced a public workshop entitled “FDA Food Labeling and Allergen Declaration” that intends to provide information about FDA food labeling regulations, allergen declaration, and other related matters to the regulated industry, particularly small business and startups. The document was published with some inadvertent errors. This document corrects those errors.

FOR FURTHER INFORMATION CONTACT: David Arvelo, Food and Drug Administration, 4040 North Central Expwy., suite 900, Dallas, TX 75204, 214-253-4952, FAX 214-253-4970.

SUPPLEMENTARY INFORMATION: In FR Doc. 02-7583, appearing on page 15211 in the Federal Register of Friday, March 29, 2002, the following correction is made:

1. On page 15211, in the third column, under “Contact”, beginning in the fourth line, “7920 Elmbrook Dr., suite 102, Dallas, TX 75247, 214-655-8100, ext. 130 or 128, FAX 214-655-8114,” is corrected to read “4040 North Central Expwy., suite 900, Dallas, TX 75204, 214-253-4952, FAX 214-253-4970,”.

Dated: July 26, 2002.
Margaret M. Dotzel,
Associate Commissioner for Policy.

[FR Doc. 02-19495 Filed 8-1-02; 8:45 am]

BILLING CODE 4160-01-S